DEPARTMENT OF THE INTERIOR

Bureau of Land Management

[LLESJ02300.L14400000.FQ0000; FLES 041063-03]

Public Land Order No. 7881; Partial Revocation Jupiter Inlet Lighthouse Withdrawal; Florida

AGENCY: Bureau of Land Management, Interior.

ACTION: Public Land Order.

SUMMARY: This Order revokes the withdrawal created by two Executive Orders insofar as they affect 16.41 acres of land reserved for the United States Coast Guard's (USCG) Jupiter Lighthouse site. The land is no longer needed for lighthouse purposes. This Order also returns administrative jurisdiction of the land to the Bureau of Land Management (BLM) to continue to be managed as part of the Jupiter Inlet Lighthouse Outstanding Natural Area.

DATES: This Public Land Order takes effect on July 31, 2019.

FOR FURTHER INFORMATION CONTACT: Vicki Craft, Realty Specialist, BLM-ES Southeastern States District Office, 273 Market Street, Flowood, MS 39232, 601-919-4655. Persons who use a telecommunications device for the deaf (TDD) may call the Federal Relay Service (FRS) at 1-800-877-8339 to reach the above individual. The FRS is available 24 hours a day, 7 days a week, to leave a message or question with the above individuals. You will receive a reply during normal business hours.

SUPPLEMENTARY INFORMATION: The USCG has determined that the Jupiter Lighthouse reservation is no longer needed for the land described in this Public Land Order. The land was incorporated into the Jupiter Inlet Lighthouse Outstanding Natural Area pursuant to Section 202 of the Consolidated Natural Resource Act of 2008 (43 U.S.C. 1787).

Order

By virtue of the authority vested in the Secretary of the Interior by Section 204 of the Federal Land Policy and Management Act of 1976, 43 U.S.C. 1714, it is ordered as follows:

1. The withdrawal created by Executive Order dated October 22, 1854, and Executive Order No. 4254, dated June 12, 1925, which reserved public land is hereby revoked in-part insofar as it affects the following described land:

Tallahassee Meridian

T. 40 S., R. 43 E.,

sec. 31, Lot 22.

The area described contains 16.41 acres in Palm Beach County.

2. Administrative jurisdiction over the land described in Paragraph 1 is hereby relinquished to the BLM to be managed as part of the Jupiter Inlet Lighthouse Outstanding Natural Area pursuant to Section 202 of the Consolidated Natural Resource Act of 2008 (43 U.S.C. 1787). Subject to valid existing rights, the land shall remain closed to all forms of entry, appropriation or disposal under the public land laws, location, entry, and patent under the mining laws, and operation of the mineral and geothermal leasing laws and the mineral material laws.

Joseph R. Balash,
Assistant Secretary—Land and Minerals Management.

[FR Doc. 2019-16303 Filed 7-30-19; 8:45 am]

BILLING CODE 4310-GJ-P